SECURITIES AND EXCHANGE COMMISSION

[Release No. IC-28481]

Notice of Applications for Deregistration Under Section 8(f) of the Investment Company Act of 1940

October 31, 2008.

The following is a notice of applications for deregistration under section 8(f) of the Investment Company Act of 1940 for the month of October, 2008. A copy of each application may be obtained for a fee at the Commission's Public Reference Room, 100 F Street, NE., Washington, DC 20549-1520 (tel. 202-551-5850). An order granting each application will be issued unless the SEC orders a hearing. Interested persons may request a hearing on any application by writing to the SEC's Secretary at the address below and serving the relevant applicant with a copy of the request, personally or by mail. Hearing requests should be received by the SEC by 5:30 p.m. on November 20, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Eaton Vance Municipal Bond Fund L.P. [File No. 811-2778]

Summary: Applicant seeks an order declaring that it has ceased to be an investment company. On December 31, 1997, applicant transferred its assets to Eaton Vance Municipal Bond Fund, a series of Eaton Vance Mutual Funds Trust, based on net asset value. Expenses of $15,000 incurred in connection with the reorganization were paid by applicant.

Filing Dates: The application was filed on August 11, 2008, and amended on September 29, 2008.

Applicant's Address: The Eaton Vance Building, 255 State St., Boston, MA 02109.

Scudder Global RREEF Real Estate Fund, Inc. [File No. 811-21550]

Summary: Applicant, a closed-end investment company, seeks an order declaring that it has ceased to be an investment company. Applicant has never made a public offering of its securities and does not propose to make a public offering or engage in business of any kind.

Filing Dates: The application was filed on August 4, 2008, and amended on October 14, 2008.

Applicant's Address: 280 Park Ave., New York, NY 10017.

Delaware Investments Minnesota Municipal Income Fund, Inc. [File No. 811-6568]

Delaware Investments Minnesota Municipal Income Fund III, Inc. [File No. 811-7938]

Summary: Each applicant, a closed-end investment company, seeks an order declaring that it has ceased to be an investment company. On February 24, 2006, each applicant transferred its assets to Delaware Investments Minnesota Municipal Income Fund II, Inc., based on net asset value. Total expenses of approximately $396,650 incurred in connection with the reorganizations were paid by the applicants, the acquiring fund and Delaware Management Company, investment adviser to the applicants.

Filing Dates: The applications were filed on August 13, 2008, and amended on October 20, 2008.

Applicants' Address: 2005 Market St., Philadelphia, PA 19103.

Phoenix Multi-Series Trust [File No. 811-6566]

Summary: Applicant seeks an order declaring that it has ceased to be an investment company.

On December 22, 2005, applicant liquidated one series. On June 27, 2007, applicant's two remaining series transferred their assets to corresponding series of Phoenix Opportunities Trust, based on net asset value. Expenses of approximately $152,211 incurred in connection with the reorganization were paid by the acquiring fund.

Filing Date: The application was filed on September 26, 2008.

Applicant's Address: 56 Prospect St., PO Box 150480, Hartford, CT 06115-0480.

Phoenix PHOLIOs [File No. 811-7643]

Summary: Applicant seeks an order declaring that it has ceased to be an investment company. On December 22 and 27, 2006, applicant liquidated three series. On September 24, 2007, applicant's four remaining series transferred their assets to corresponding series of Phoenix Opportunities Trust, based on net asset value. Expenses of approximately $62,358 incurred in connection with the reorganization were paid by the surviving series.

Filing Date: The application was filed on September 26, 2008.

Applicant's Address: 56 Prospect St., PO Box 150480, Hartford, CT 06115-0480.

Phoenix CA Tax-Exempt Bond Fund [File No. 811-3714]

Phoenix Portfolios [File No. 811-8631]

Summary: Each applicant seeks an order declaring that it has ceased to be an investment company. On June 27, 2007, each applicant transferred its assets to a corresponding series of Phoenix Opportunities Trust, based on net asset value. Expenses of approximately $9,263 and $10,023, respectively, incurred in connection with the reorganizations were paid by the acquiring fund.

Filing Date: The applications were filed on September 26, 2008.

Applicants' Address: 56 Prospect St., PO Box 150480, Hartford, CT 06115-0480.

Legg Mason Partners Equity Funds [File No. 811-4551]

Legg Mason Partners Sector Series, Inc. [File No. 811-4757]

Summary: Each applicant seeks an order declaring that it has ceased to be an investment company. On April 16, 2007, each applicant transferred its assets to corresponding series of Legg Mason Partners Equity Trust, based on net asset value. Expenses of approximately $197,148 and $47,850, respectively, incurred in connection with the reorganizations were paid by applicants and Legg Mason, Inc., the parent company of applicants' investment adviser.

Filing Date: The applications were filed on September 26, 2008.

Applicants' Address: 55 Water St., New York, NY 10041.

Legg Mason Partners Massachusetts Municipals Fund [File No. 811-4994]

Legg Mason Partners Oregon Municipals Fund [File No. 811-7149]

Summary: Each applicant seeks an order declaring that it has ceased to be an investment company. On April 16, 2007, each applicant transferred its assets to a corresponding series of Legg Mason Partners Income Trust, based on net asset value. Expenses of approximately $8,190 and $6,526, respectively, incurred in connection with the reorganizations were paid by applicants and Legg Mason, Inc., parent company of applicants' investment adviser.

Filing Date: The applications were filed on September 26, 2008.

Applicants' Address: 55 Water St., New York, NY 10041.

Legg Mason Partners Investors Value Fund, Inc. [File No. 811-805]

Legg Mason Partners Equity Fund, Inc. [File No. 811-2733]

Legg Mason Partners Fundamental Value Fund, Inc. [File No. 811-3158]

Summary: Each applicant seeks an order declaring that it has ceased to be an investment company. On April 16, 2007, each applicant transferred its assets to a corresponding series of Legg Mason Partners Equity Trust, based on net asset value. Expenses of approximately $223,156, $235,396 and $2,749,910, respectively, incurred in connection with the reorganizations were paid by applicants and Legg Mason, Inc., the parent company of applicants' investment adviser.

Filing Date: The applications were filed on September 17, 2008.

Applicants' Address: 55 Water St., New York, NY 10041.

Legg Mason Partners Investment Series [File No. 811-5018]

Summary: Applicant seeks an order declaring that it has ceased to be an investment company. On April 16, 2007, applicant transferred its assets to corresponding series of Legg Mason Partners Equity Trust, Legg Mason Partners Variable Equity Trust and Legg Mason Partners Variable Income Trust, based on net asset value. Expenses of approximately $2,003,049 incurred in connection with the reorganization were paid by applicant and Legg Mason, Inc., the parent company of applicant's investment adviser.

Filing Date: The application was filed on September 26, 2008.

Applicant's Address: 55 Water St., New York, NY 10041.

Legg Mason Partners Series Funds, Inc. [File No. 811-6087]

Summary: Applicant seeks an order declaring that it has ceased to be an investment company. On April 16, 2007, applicant transferred its assets to corresponding series of Legg Mason Partners Equity Trust and Legg Mason Partners Income Trust, based on net asset value. Expenses of approximately $453,367 incurred in connection with the reorganization were paid by applicant and Legg Mason, Inc., the parent company of applicant's investment adviser.

Filing Date: The application was filed on September 26, 2008.

Applicant's Address: 55 Water St., New York, NY 10041.

Legg Mason Partners Municipal Funds [File No. 811-4395]

Summary: Applicant seeks an order declaring that it has ceased to be an investment company. On April 16, 2007, applicant transferred its assets to corresponding series of Legg Mason Partners Income Trust and Legg Mason Partners Money Market Trust, based on net asset value. Expenses of approximately $599,641 incurred in connection with the reorganization were paid by applicant and Legg Mason, Inc., the parent company of applicant's investment adviser.

Filing Date: The application was filed on September 26, 2008.

Applicant's Address: 55 Water St., New York, NY 10041.

Legg Mason Partners Funds, Inc. [File No. 811-1464]

Legg Mason Partners Managed Municipals Fund, Inc. [File No. 811-3097]

Legg Mason Partners Core Plus Bond Fund, Inc. [File No. 811-4061]

Legg Mason Partners New Jersey Municipals Fund, Inc. [File No. 811-5406]

Summary: Each applicant seeks an order declaring that it has ceased to be an investment company. On April 16, 2007, each applicant transferred its assets to a corresponding series of Legg Mason Partners Income Trust, based on net asset value. Expenses of approximately $31,993, $360,606, $87,298 and $25,533, respectively, incurred in connection with the reorganizations were paid by applicants and Legg Mason, Inc., the parent company of applicants' investment adviser.

Filing Date: The applications were filed on September 17, 2008.

Applicants' Address: 55 Water St., New York, NY 10041.

The Blue Fund Group [File No. 811-21908]

Summary: Applicant seeks an order declaring that it has ceased to be an investment company. On June 24, 2008, applicant made a final liquidating distribution to its shareholders, based on net asset value. Expenses of $29,567 incurred in connection with the liquidation were paid by Blue Investment Management, LLC, applicant's investment adviser.

Filing Date: The application was filed on September 23, 2008.

Applicant's Address: 888 16th St., NW., Suite 800, Washington, DC 20006.

Cash Equivalent Fund [File No. 811-2899]

Summary: Applicant seeks an order declaring that it has ceased to be an investment company. On July 8, 2005, applicant made a liquidating distribution to its shareholders, based on net asset value. Expenses of $72,039 incurred in connection with the liquidation were paid by Deutsche Investment Management Americas Inc., applicant's investment adviser.

Filing Date: The application was filed on September 30, 2008.

Applicant's Address: 345 Park Ave., New York, NY 10154.

AIM Summit Investors Plans I [File No. 811-3444]

AIM Summit Investors Plans II [File No. 811-9311]

Summary: Each applicant, a unit investment trust, seeks an order declaring that it has ceased to be an investment company. On December 8, 2006, each applicant made a liquidating distribution to its unitholders, based on net asset value. Expenses of $251,861 and $76,978, respectively, incurred in connection with the liquidations were paid by Invesco Aim Distributors, Inc., applicants' distributor.

Filing Date: The applications were filed on September 26, 2008.

Applicants' Address: 11 Greenway Plaza, Suite 100, Houston, TX 77046-1173.

Oppenheimer Tremont Opportunity Fund, LLC [File No. 811-10541]

Summary: Applicant, a closed-end investment company, seeks an order declaring that it has ceased to be an investment company. On March 31, 2008, June 30, 2008, and August 31, 2008, applicant made liquidating distributions to its shareholders, based on net asset value. Applicant incurred no expenses in connection with the liquidation.

Filing Date: The application was filed on October 3, 2008.

Applicant's Address: 6803 S. Tucson Way, Centennial, CO 80112.

Evergreen Latin America Fund [File No. 811-7914]

Summary: Applicant seeks an order declaring that it has ceased to be an investment company. On or about February 27, 1998, applicant transferred its assets to a corresponding series of Evergreen International Trust, based on net asset value. Applicant paid the expenses incurred in connection with the reorganization.

Filing Date: The application was filed on October 6, 2008.

Applicant's Address: 200 Berkeley St., Boston, MA 02116.

Evergreen Limited Market Fund Inc. [File No. 811-3653]

Summary: Applicant seeks an order declaring that it has ceased to be an investment company. On or about December 22, 1997, applicant transferred its assets to a corresponding series of Evergreen Equity Trust, based on net asset value. Applicant paid the expenses incurred in connection with the reorganization.

Filing Date: The application was filed on October 7, 2008.

Applicant's Address: 200 Berkeley St., Boston, MA 02116.

Evergreen Lexicon Trust [File No. 811-6368]

Summary: Applicant seeks an order declaring that it has ceased to be an investment company. On or about December 22, 1997, applicant transferred its assets to a corresponding series of Evergreen Fixed Income Trust, based on net asset value. Applicant paid the expenses incurred in connection with the reorganization.

Filing Date: The application was filed on October 6, 2008.

Applicant's Address: 200 Berkeley St., Boston, MA 02116.

XTF Advisors Trust [File No. 811-21971]

Summary: Applicant seeks an order declaring that it has ceased to be an investment company. On June 20, 2008, applicant made a liquidating distribution to its shareholders, on the basis of net assets. Expenses of $7,916 incurred in connection with the liquidation were paid by the applicant and CLS Investment Firm, LLC, applicant's investment adviser.

Filing Dates: The application was filed on August 29, 2008, and amended on September 30, 2008.

Applicant's Address: c/o Gemini Fund Services, LLC, 450 Wireless Boulevard, Hauppauge, NY 11788.

For the Commission, by the Division of Investment Management, pursuant to delegated authority.
Florence E. Harmon,
Acting Secretary.

[FR Doc. E8-26441 Filed 11-5-08; 8:45 am]

BILLING CODE 8011-01-P